CONSUMER PRODUCT SAFETY COMMISSION

[Docket No. CPSC-2009-0102]

Submission for OMB Review; Comment Request—Follow-Up Activities for Product-Related Injuries

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information from persons who have been involved in or have witnessed incidents associated with consumer products.

DATES: Written comments on this request for extension of approval of information collection requirements should be submitted by October 21, 2016.

ADDRESSES: OMB recommends that written comments be faxed to the Office of Information and Regulatory Affairs, OMB, Attn: CPSC Desk Officer, FAX: 202-395-6974, or emailed to oira_submission@omb.eop.gov. All comments should be identified by Docket No. CPSC-2009-0102. In addition, written comments also should be submitted at http://www.regulations.gov, under Docket No. CPSC-2009-0102, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; telephone: 301-504-7923 or by email to rsquibb@cpsc.gov.

SUPPLEMENTARY INFORMATION: In the Federal Register of June 22, 2016 (81 FR 40677), the CPSC published a notice in accordance with provisions of the Paperwork Reduction Act of 1995 (44 U.S.C. Chapter 35) to announce the CPSC's intention to seek extension of approval of a collection of information on product-related injuries or incidents. No comments were received in response to that notice. Therefore, by publication of this notice, the Commission announces that it has submitted to OMB a request for extension of approval of that collection of information without change.

A. Background

Section 5(a) of the Consumer Product Safety Act, 15 U.S.C. 2054(a), requires the Commission to collect information related to the causes and prevention of death, injury, and illness associated with consumer products. That section also requires the Commission to conduct continuing studies and investigations of deaths, injuries, diseases, other health impairments, and economic losses resulting from accidents involving consumer products.

The Commission obtains information about product-related deaths, injuries, and illnesses from a variety of sources, including newspapers, death certificates, consumer complaints, and medical facilities. In addition, the Commission receives information through its Internet Web site through forms reporting on product-related injuries or incidents.

The Commission also operates a surveillance system known as the National Electronic Injury Surveillance System (NEISS) that provides timely data on consumer product-related injuries treated as well as U.S. childhood poisonings. NEISS data comes from a statistically valid sample from approximately 100 hospital emergency departments. The NEISS system has been in operation since 1971. NEISS emergency department records are reviewed by hospital employees or contractors (NEISS respondents).

From these sources, Commission staff selects cases of interest for further investigation by face-to-face or telephone interviews with persons who witnessed, or were injured in, incidents involving consumer products. The CPSC plans to begin conducting investigations through internet-based questionnaires in the next year to supplement telephone interviews. On-site investigations are usually made in cases where CPSC staff need photographs of the incident site, the product involved, or detailed information about the incident. This information can come from face-to-face interviews with persons who were injured or who witnessed the incident, as well as contact with state and local officials, including police, coroners, and fire investigators, and others with knowledge of the incident.

The Commission uses the information to support the development and improvement of voluntary standards; rulemaking proceedings; information and education campaigns; compliance and enforcement efforts and related administrative and judicial proceedings. Commission activities are, in many cases, data driven, and incident data is crucial in advancing the agency's mission. In addition, the CPSC also collects information through NEISS for other federal agencies through Interagency Agreements including the Centers for Disease Control and Prevention (CDC) and the National Highway Traffic Safety Administration (NHTSA).

OMB approved the collection of information concerning product-related injuries under control number 3041-0029. OMB's most recent extension of approval will expire on September 30, 2016. The Commission now proposes to request an extension of approval of this collection of information.

B. NEISS Estimated Burden

The NEISS system collects information on consumer-product related injuries from about 100 hospitals in the U.S. Respondents to NEISS include hospitals that directly report information to NEISS and hospitals that allow CPSC contractors to collect the data on behalf of the agency. In FY 2015, there were 137 NEISS respondents (total hospitals and CPSC contractors). The NEISS respondents reviewed an estimated 5.05 million emergency department records and reported 739,673 total cases.

Collecting emergency department records for review each day takes about 10 minutes. Each record takes about 30 seconds to review. Coding and reporting records that involve consumer products or other injuries takes about 2 minutes per record. Coding and reporting additional special study information takes about 90 seconds per record. Respondents also spend about 36 hours per year in related activities (training, evaluations, and communicating with other hospital staff).

The total burden hours for all NEISS respondents are estimated to be 81,210 for FY2015. The average burden hour per respondent is 593 hours. However, the total burden hour on each respondent varies due to differences in size of the hospital (e.g., small rural hospitals versus large metropolitan hospitals). The smallest hospital reported 202 cases with a burden of about 111 hours, while the largest hospital reported 60,405 cases with a burden of about 4,222 hours.

The total costs to NEISS respondents for FY2015 are estimated to be $3,271,621 per year. NEISS respondents enter into contracts with CPSC and are compensated for these costs. The average cost per respondent is estimated to be about $23,880. The average cost per burden hour is estimated to be $40.29 per hour (including wages and overhead). However, the actual cost to each respondent varies due to the type of respondent (hospital versus CPSC contractor), size of hospital, and regional differences in wages and overhead. Therefore, the actual annual cost for any given respondent may vary between $1,199 at a small rural hospital and $281,953 at the largest metropolitan hospital.

C. Other Burden Hours

In cases that require more information regarding product-related incidents or injuries, the CPSC staff conducted face-to-face interviews of approximately 220 persons each year. On average, an on-site interview takes about 4.5 hours. CPSC staff also conducts about 1760 in-depth investigations by telephone. Each in-depth telephone investigation requires about 20 minutes. In addition, staff is planning to conduct about 200 internet-based questionnaires per year that require about 20 minutes each.

The CPSC staff estimates 1,643 annual burden hours on these respondents: 989 hours for face-to-face interviews; 587 hours for in-depth telephone interviews, and 67 hours for internet-based questionnaires. The burden required for reporting is estimated at $32.82 an hour (U.S. Bureau of Labor Statistics, “Employer Costs for Employee Compensation,” March 2016, Table 9, Total compensation for all sales and office workers in goods-producing industries: http://www.bls.gov/ncs). At this valuation, the estimated annual cost to the public is about $53,923.

This request for the approval of an estimated 82,853 (81,210 NEISS and 1,643 other) burden hours per year is an increase of 37,845 hours since this collection of information was last approved by OMB in 2013. The increase in the burden hours is largely due to the inclusion of information collected through NEISS for other federal agencies through Interagency Agreements including CDC and NHTSA, which were not otherwise accounted for by those agencies. In order to account for all the burden hours associated with the NEISS information collection, we have added those hours to the collection of information. The increase in burden hours also includes the increase associated with offering internet-based questionnaires in addition to in-person and telephone interviews.

This information collection request excludes the burden associated with other publicly available Consumer Product Safety Information Databases, such as internet complaints, Hotline, and Medical Examiners and Coroners Alert Project (MECAP) reports, which are approved under OMB control number 3041-0146. This information collection request also excludes the burden associated with follow-up investigations conducted by other federal agencies.

The annual cost to the government of the collection of the NEISS information is estimated to be about $4.9 million a year. This estimate includes $3.3 million in compensation to NEISS respondents described in section 12(a) above. This estimate also includes $1.603 million for about 150 CPSC professional staff months each year. The estimate of professional staff months includes the time required to: Oversee NEISS operations (e.g., administration, training, quality control); prepare questionnaires, interviewer guidelines, and other instruments and instructions used to collect the information; conduct face-to-face and telephone interviews; and evaluate responses obtained from interviews and completed forms. Each month of professional staff time costs the Commission about $10,683.83. This is based on a GS-12 mid-level salaried employee. The average yearly wage rate for a mid-level salaried GS-12 employee in the Washington, DC metropolitan area (effective as of January 2016) is $87,821 (GS-12, step 5). This represents 68.5 percent of total compensation (U.S. Bureau of Labor Statistics, “Employer Costs for Employee Compensation,” March 2016, Table 1, percentage of wages and salaries for all civilian management, professional, and related employees: http://www.bls.gov/ncs/). Adding an additional 31.5 percent for benefits brings average yearly compensation for a mid-level salaried GS-12 employee to $128,206.

Dated: September 16, 2016.
Todd A. Stevenson,
Secretary, Consumer Product Safety Commission.

[FR Doc. 2016-22696 Filed 9-20-16; 8:45 am]

BILLING CODE 6355-01-P